DEPARTMENT OF THE INTERIOR

Bureau of Indian Affairs

Information Collection for IDEIA Part B and C Child Counts; Comment Request

AGENCY: Bureau of Indian Affairs, Interior.

ACTION: Notice of proposed information collection.

SUMMARY: As required by the Paperwork Reduction Act, the Bureau of Indian Education (BIE), U.S. Department of the Interior (Interior) is seeking comments on a proposed information collection related to the Individuals with Disabilities Education Improvement Act (IDEIA). The IDEIA provides that the Secretary of the Interior will allocate funding for the coordination of assistance for special education and related services for American Indian children aged 0 to 5 with disabilities on reservations served by elementary schools for Indian children that are operated or funded by the Department of the Interior (“Bureau-funded schools”). The BIE allocates this funding to tribes and tribal organizations. In support of this allocation, the BIE collects information on the number of American Indian children aged 0 to 5 with disabilities on reservations served by Bureau-funded schools. This notice requests comments on that information collection.

DATES: Submit comments on or before August 3, 2010.

ADDRESSES: Mail or handcarry comments to Brandi A. Sweet, Program Analyst, U.S. Department of the Interior, Bureau of Indian Education, 1849 C Street, NW., MS-3609, Washington, DC 20240, or via facsimile (202) 208-3312; or via e-mail to Brandi.Sweet@bie.edu.

FOR FURTHER INFORMATION CONTACT: Brandi Sweet, Program Analyst, U.S. Department of the Interior, Bureau of Indian Education. Telephone (202) 208-5504.

SUPPLEMENTARY INFORMATION:

I. Abstract

The IDEIA, 20 U.S.C. 1411(h)(4)(c) and 1443(b)(3) require tribes and tribal organizations to submit certain information to the Secretary of the Interior. Under the IDEIA, the U.S. Department of Education provides funding to the Secretary of the Interior for the coordination of assistance for special education and related services for Indian children aged 0 to 5 with disabilities on reservations served by Bureau-funded schools. The Secretary of the Interior, through the BIE, then allocates this funding to tribes and tribal organizations based on the number of such children served. In order to allow the Secretary of the Interior to determine what amounts to allocate to whom, the IDEIA requires tribes and tribal organizations to submit information to Interior. The BIE collects this information on two forms, one for Indian children aged 3 to 5 covered by IDEIA Part B, and one for Indian children aged 0 to 2 covered by IDEIA Part C.

In IDEIA Part B—Assistance for Education of All Children with Disabilities, 20 U.S.C. 1411(h)(4)(D) requires tribes and tribal organizations to use the funds to assist in child find, screening, and other procedures for the early identification of Indian children aged 3 through 5, parent training, and the provision of direct services. In IDEIA Part C—Infants and Toddlers with Disabilities, 20 U.S.C. 1443(b)(4) likewise requires tribes and tribal organizations to use the funds to assist in child find, screening, and other procedures for early identification of Indian children under 3 years of age and for parent training, and early intervention services.

The Paperwork Reduction Act of 1995 provides an opportunity for interested parties to comment on proposed information collection requests. The BIE is proceeding with this public comment period as the first step in obtaining an information collection clearance from the Office of Management and Budget (OMB). Each clearance request contains (1) type of review, (2) title, (3) summary of the collection, (4) respondents, (5) frequency of collection, (6) reporting and record keeping requirements.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility and clarity of the information to be collected; and (d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section. Before including your address, phone number, e-mail address or other personally identifiable information, be advised that your entire comment—including your personally identifiable information—may be made public at any time. While you may request that we withhold your personally identifiable information, we cannot guarantee that we will be able to do so.

III. Data

OMB Control Number: 1076-0NEW.

Type of Review: Existing collection in use without an OMB number.

Title: IDEIA Part B and Part C Child Count.

Brief Description of Collection: Indian tribes and tribal organizations served by elementary or secondary schools for Indian children operated or funded by the Department of Interior that receive allocations of funding under the IDEIA for the coordination of assistance for Indian children aged 0 to 5 with disabilities on reservations must submit information to the BIE. The information must be provided on two forms. The Part B form addresses Indian children aged 3 to 5 on reservations served by Bureau-funded schools. The Part C form addresses Indian children up to age 3 on reservations served by Bureau-funded schools. The information required by the forms includes counts of children as of a certain date each year. Response is required to obtain a benefit.

Respondents: Indian tribes and tribal organizations.

Number of Respondents: 61 each year.

Estimated Time per Response: 10 hours per form.

Frequency of Response: Twice (Once per year for each form).

Total Annual Burden to Respondents: 1,220 hours.

Dated: May 24, 2010.
Alvin Foster,
Acting Chief Information Officer—Indian Affairs.

[FR Doc. 2010-13391 Filed 6-3-10; 8:45 am]

BILLING CODE 4310-4M-P